DEPARTMENT OF TRANSPORTATION

Federal Aviation Administration

14 CFR Part 71

[Docket No. FAA-2015-1345; Airspace Docket No. 14-AWP-13]

RIN 2120-AA66

Establishment of Multiple Air Traffic Service (ATS) Routes; Western United States

AGENCY: Federal Aviation Administration (FAA), DOT.

ACTION: Final rule.

SUMMARY: This action establishes 13 high altitude Area Navigation (RNAV) routes (Q-routes) in the western United States. The routes promote operational efficiencies for users and provide connectivity to current and proposed RNAV en route and terminal procedures. The low altitude RNAV route, T-326, published in the Notice of Proposed Rulemaking, requires more coordination and is removed from this rule.

DATES: Effective date 0901 UTC, March 31, 2016. The Director of the Federal Register approves this incorporation by reference action under title 1 Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.9Z at NARA, call (202) 741-6030, or go to http://www.archives.gov/federal_register/code_of_federal-regulations/ibr_locations.html.

FAA Order 7400.9, Airspace Designations and Reporting Points, is published yearly and effective on September 15.

FOR FURTHER INFORMATION CONTACT: Jason Stahl, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it would modify the route structure in the western U.S. to preserve the safe and efficient flow of air traffic within the NAS.

History

On June 5, 2015, the FAA published in the Federal Register a notice of proposed rulemaking (NPRM) to establish 13 RNAV Q-routes and one T-route originating in Los Angeles Air Route Traffic Control Center's (ARTCC) airspace (80 FR 32074). Interested parties were invited to participate in this rulemaking effort by submitting written comments on the proposal. No comments were received.

The development of new RNAV Standard Instrument Departure (SID) and Standard Terminal Arrival (STAR) routes requires incorporation of these Q routes into the NAS Route Structure in order to maximize the benefits of increased safety in high volume en route sectors.

The Los Angeles Air Route Traffic Control Center (ARTCC) currently does not have routes that join the Performance Based Navigation (PBN) arrival and departure procedures. The existing conventional jet route structure does not serve the new SID/STAR designs. Routes made up of ground based navigational aids are not capable of delivering aircraft onto the RNAV based arrival and departure procedures in an efficient manner. Developing these predictable and repeatable flight paths through a complex area confined by restricted areas will improve throughput and safety for Los Angeles ARTCC.

This first phase of a two phase project will align a network of Q-Routes with the new SIDs and STARs. The Q-Route structure is projected to optimize descent/climb profiles to/from several airports in southern California and create segregated arrival/departure paths to reduce airspace complexity.

High altitude United States RNAV routes are published in paragraph 2006 and high altitude Canadian RNAV routes are published in paragraph 2007 of FAA Order 7400.9Z dated August 6, 2015, and effective September 15, 2015, which is incorporated by reference in 14 CFR 71.1. The high altitude United States RNAV routes (Q-routes) and high altitude Canadian RNAV routes listed in this document would be subsequently published in the Order.

Availability and Summary of Documents for Incorporation by Reference

This document amends FAA Order 7400.9Z, airspace Designations and Reporting Points, dated August 6, 2015, and effective September 15, 2015. FAA Order 7400.9Z is publicly available as listed in the ADDRESSES section of this document. FAA Order 7400.9Z lists Class A, B, C, D, and E airspace areas, air traffic service routes, and reporting points.

Differences From the NPRM

This rule has several changes from the NPRM. First, the NPRM proposed to establish a low altitude RNAV route, T-326. Due to additional coordination required for low altitude routes, T-326 will not be included in this final rule, but will be finalized at a later date. Second, in the state of Nevada, BEALE waypoint was moved from lat. 36°10′56.60″ N., long. 114°49′34.81″ W. to lat. 36°10′56.83″ N., long. 114°49′34.09″ W., to properly connect to a Standard Instrument Departure procedure. In the state of Idaho, HELLS waypoint is removed from Q-73. Also in Idaho, CORDU waypoint is moved from lat. 48°10′46.10″ N., long. 116°40′21.84″ W., to lat. 48°10′46.41″ N., long. 116°40′21.84″ W., to align with a future polar Q route. And finally, LAKKR waypoint, listed under Q-73, was erroneously shown in the state of Arizona, but is actually located in Nevada.

The Rule

The FAA is amending Title 14, Code of Federal Regulations (14 CFR) part 71 to establish U.S. RNAV routes Q-70, Q-73, Q-74, Q-78, Q-86, Q-88, Q-90, Q-94, Q-96, Q-98, Q-114, Q-168, and Q-842, which is an extension of a current Canadian RNAV route and therefore retains the Canadian numbering. The routes will connect to new SID and STAR procedures as designed in the Southern California area. The routes are outlined below.

Q-70: Q-70 is from the HAILO, CA, waypoint (WP) to the SAKES, UT, WP to support departures from Los Angeles basin airports to the northeast.

Q-73: Q-73 is established from the MOMAR, CA, WP to the CORDU, ID, WP to accommodate arrivals to San Diego airport.

Q-74: Q-74 is from the NATEE, NV, WP to the DEANN, UT, WP and supports arrivals to John Wayne, Long Beach and Ontario airports from the northeast.

Q-78: Q-78 is established from the MARUE, NV, WP to the TOADD, AZ, WP to support arrivals to John Wayne, Long Beach and Ontario airports from the east and northeast.

Q-86: Q-86 is from the TTRUE, AZ, WP to the PLNDL, AZ, WP for arrivals to San Diego and Ontario airports from the east.

Q-88: Q-88 is established from the HAKMN, NV, WP to the CHESZ, UT, WP to support Los Angeles airport arrivals from the northeast.

Q-90: Q-90 is from the DNERO, CA, WP to the JASSE, AZ, WP and will be the primary RNAV route to Los Angeles from Denver ARTCC.

Q-94: Q-94 is from the WELUM, NV, WP to the ROOLL, AZ, WP to support Denver ARTCC arrivals to Burbank, Van Nuys, Camarillo and Oxnard airports.

Q-96: Q-96 is established from the PURSE, NV, WP to the KIMMR, UT, WP to support arrivals to Burbank, Van Nuys, Camarillo and Oxnard airports from the Salt Lake ARTCC.

Q-98: Q-98 is from the HAKMN, NV, WP to the PEEWE, AZ, WP to support Denver ARTCC arrivals to Los Angeles and San Diego airports.

Q-114: Q-114 extends from the NATEE, NV, WP to the BUGGG, UT, WP to support Salt Lake ARTCC arrivals to Long Beach, Ontario and Orange County airports.

Q-168: Q-168 extends from the FNNDA, CA, WP to the JASSE, AZ, WP and will be the primary arrival route for Los Angeles airport from the Denver ARTCC.

Q-842: Existing Canadian route Q-842 is extended south into U.S. airspace. The route will begin at the BEALE, NV, WP and extend north to the existing TOVUM, AB, WP in Canada. This will provide routing for departures from Los Angeles, Long Beach, Ontario and Orange County airports to airports in Calgary and Edmonton, Canada.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policy and Procedures” paragraph 5-6.5.a. This airspace action is not expected to cause any potentially significant environmental impacts and no extraordinary circumstances exist that warrant preparation of an environmental assessment.

List of Subjects in 14 CFR Part 71

Airspace, Incorporation by reference, Navigation (air).

The Rule

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 2006 United States Area Navigation Routes.

* * * * *

Q-70 HAILO, CA to SAKES, UT (New)
HAILO, CA | WP | (Lat. 35°38′14.00″ N., long. 115°58′16.00″ W.)
LAS, NV | VOR | (Lat. 36°04′46.93″ N., long. 115°09′35.27″ W.)
IFEYE, NV | WP | (Lat. 36°24′56.04″ N., long. 114°47′49.32″ W.)
BLIPP, NV | WP | (Lat. 36°42′41.31″ N., long. 114°28′26.45″ W.)
EEVUN, UT | WP | (Lat. 37°02′52.90″ N., long. 113°42′42.56″ W.)
BLOBB, UT | WP | (Lat. 37°17′45.63″ N., long. 113°06′52.16″ W.)
BAWER, UT | WP | (Lat. 37°38′06.68″ N., long. 112°16′45.89″ W.)
SAKES, UT | WP | (Lat. 38°50′00.51″ N., long. 110°16′16.52″ W.)
* * * * *
Q-73 MOMAR, CA to CORDU, ID (New)
MOMAR, CA | WP | (Lat. 33°30′54.13″ N., long. 115°56′40.14″ W.)
CABIC, CA | WP | (Lat. 33°46′17.01″ N., long. 115°49′28.71″ W.)
CHADT, CA | WP | (Lat. 33°55′18.49″ N., long. 115°45′03.26″ W.)
LVELL, CA | WP | (Lat. 34°12′37.38″ N., long. 115°36′53.25″ W.)
HAKMN, NV | WP | (Lat. 35°30′28.31″ N., long. 115°04′47.04″ W.)
ZZYZX, NV | WP | (Lat. 35°39′53.52″ N., long. 114°51′54.99″ W.)
LAKRR, NV | WP | (Lat. 36°05′07.72″ N., long. 114°17′09.16″ W.)
GUNTR, AZ | WP | (Lat. 36°24′39.65″ N., long. 114°02′11.55″ W.)
ZAINY, AZ | WP | (Lat. 36°39′24.73″ N., long. 113°54′03.50″ W.)
EEVUN, UT | WP | (Lat. 37°02′52.90″ N., long. 113°42′42.56″ W.)
WINEN, UT | WP | (Lat. 37°56′00.00″ N., long. 113°30′00.00″ W.)
CRITO, NV | WP | (Lat. 39°18′00.00″ N., long. 114°33′00.00″ W.)
BROPH, ID | WP | (Lat. 42°43′15.71″ N., long. 114°52′31.80″ W.)
DERSO, ID | FIX | (Lat. 43°21′42.63″ N., long. 115°08′01.66″ W.)
SAWTT, ID | WP | (Lat. 44°37′35.52″ N., long. 115°43′55.55″ W.)
ZATIP, ID | WP | (Lat. 46°13′17.48″ N., long. 116°31′37.57″ W.)
CORDU, ID | WP | (Lat. 48°10′46.41″ N., long. 116°40′21.84″ W.)
Q-74 NATEE, NV to DEANN, UT (New)
NATEE, NV | WP | (Lat. 35°37′14.00″ N., long. 115°22′26.00″ W.)
BLD, NV | VOR | (Lat. 35°59′44.84″ N., long. 114°51′48.88″ W.)
ZAINY, AZ | WP | (Lat. 36°39′24.73″ N., long. 113°54′03.50″ W.)
FIZZL, AZ | WP | (Lat. 36°56′03.37″ N., long. 113°16′23.91″ W.)
GARDD, UT | WP | (Lat. 37°03′12.91″ N., long. 112°37′54.38″ W.)
DEANN, UT | WP | (Lat. 37°12′34.00″ N., long. 111°42′47.00″ W.)
Q-78 MARUE, NV to TOADD, AZ (New)
MARUE, NV | WP | (Lat. 35°15′23.00″ N., long. 114°52′55.00″ W.)
DUGGN, AZ | WP | (Lat. 35°44′06.83″ N., long. 113°23′24.52″ W.)
TOADD, AZ | WP | (Lat. 36°17′45.60″ N., long. 111°30′37.21″ W.)
* * * * *
Q-86 TTRUE, AZ to PLNDL, AZ (New)
TTRUE, AZ | WP | (Lat. 34°38′01.53″ N., long. 114°23′05.05″ W.)
YORRK, AZ | WP | (Lat. 34°52′03.23″ N., long. 113°55′58.14″ W.)
SCHLS, AZ | WP | (Lat. 35°14′18.55″ N., long. 113°09′42.77″ W.)
CUTRO, AZ | WP | (Lat. 35°36′16.98″ N., long. 112°23′00.00″ W.)
VALEQ, AZ | WP | (Lat. 35°44′01.73″ N., long. 112°06′31.44″ W.)
PLNDL, AZ | WP | (Lat. 35°50′17.43″ N., long. 111°52′40.71″ W.)
Q-88 HAKMN, NV to CHESZ, UT (New)
HAKMN, NV | WP | (Lat. 35°30′28.31″ N., long. 115°04′47.04″ W.)
ZZYZX, NV | WP | (Lat. 35°39′53.52″ N., long. 114°51′54.99″ W.)
LAKRR, NV | WP | (Lat. 36°05′07.72″ N., long. 114°17′09.16″ W.)
NOOTN, AZ | WP | (Lat. 36°37′32.63″ N., long. 113°20′40.25″ W.)
GARDD, UT | WP | (Lat. 37°03′12.91″ N., long. 112°37′54.38″ W.)
VERKN, UT | WP | (Lat. 37°23′00.05″ N., long. 112°04′21.69″ W.)
PROMT, UT | WP | (Lat. 37°30′06.70″ N., long. 111°52′12.94″ W.)
CHESZ, UT | WP | (Lat. 38°16′59.03″ N., long. 110°02′11.31″ W.)
Q-90 DNERO, CA to JASSE, AZ (New)
DNERO, CA | WP | (Lat. 35°02′07.14″ N., long. 114°54′16.39″ W.)
ESGEE, NV | WP | (Lat. 35°08′00.50″ N., long. 114°37′21.64″ W.)
AREAF, AZ | WP | (Lat. 35°36′31.77″ N., long. 113°13′50.46″ W.)
JASSE, AZ | WP | (Lat. 36°04′15.53″ N., long. 111°48′45.81″ W.)
Q-94 WELUM, NV to ROOLL, AZ (New)
WELUM, NV | WP | (Lat. 35°22′56.00″ N., long. 114°55′59.00″ W.)
MNGGO, AZ | WP | (Lat. 35°51′13.55″ N., long. 113°28′23.59″ W.)
ROOLL, AZ | WP | (Lat. 36°27′37.93″ N., long. 111°28′54.98″ W.)
Q-96 PURSE, NV to KIMMR, UT (New)
PURSE, NV | WP | (Lat. 35°34′54.00″ N., long. 115°11′53.00″ W.)
DODDL, NV | WP | (Lat. 35°49′28.80″ N., long. 114°51′51.29″ W.)
BFUNE, AZ | WP | (Lat. 36°06′10.73″ N., long. 114°28′40.09″ W.)
GUNTR, AZ | WP | (Lat. 36°24′39.65″ N., long. 114°02′11.55″ W.)
PIIXR, AZ | WP | (Lat. 36°36′29.27″ N., long. 113°45′02.40″ W.)
FIZZL, AZ | WP | (Lat. 36°56′03.37″ N., long. 113°16′23.91″ W.)
BAWER, UT | WP | (Lat. 37°38′06.68″ N., long. 112°16′45.89″ W.)
ROCCY, UT | WP | (Lat. 37°49′41.63″ N., long. 111°59′59.84″ W.)
SARAF, UT | WP | (Lat. 38°36′03.84″ N., long. 110°53′24.20″ W.)
KIMMR, UT | WP | (Lat. 39°13′45.24″ N., long. 109°57′30.10″ W.)
Q-98 HAKMN, NV to PEEWE, AZ (New)
HAKMN, NV | WP | (Lat. 35°30′28.31″ N., long. 115°04′47.04″ W.)
ZZYZX, NV | WP | (Lat. 35°39′53.52″ N., long. 114°51′54.99″ W.)
LAKRR, NV | WP | (Lat. 36°05′07.72″ N., long. 114°17′09.16″ W.)
DUZIT, AZ | WP | (Lat. 36°24′51.20″ N., long. 113°24′51.53″ W.)
EEEZY, AZ | WP | (Lat. 36°44′33.18″ N., long. 112°21′40.77″ W.)
PEEWE, AZ | WP | (Lat. 36°58′08.69″ N., long. 111°36′40.81″ W.)
* * * * *
Q-114 NATEE, NV to BUGGG, UT (New)
NATEE, NV | WP | (Lat. 35°37′14.00″ N., long. 115°22′26.00″ W.)
BLD, NV | VOR | (Lat. 35°59′44.84″ N., long. 114°51°48.88″ W.)
ZAINY, AZ | WP | (Lat. 36°39′24.73″ N., long. 113°54′03.50″ W.)
AHOWW, UT | WP | (Lat. 37°07′14.56″ N., long. 113°11′34.04″ W.)
BAWER, UT | WP | (Lat. 37°38′06.68″ N., long. 112°16′45.89″ W.)
BUGGG, UT | WP | (Lat. 38°39′18.31″ N., long. 109°29′48.01″ W.)
* * * * *
Q-168 FNNDA, CA to JASSE, AZ (New)
FNNDA, CA | WP | (Lat. 34°45′14.96″ N., long. 114°45′18.49″ W.)
SHIVA, AZ | WP | (Lat. 34°58′12.28″ N., long. 114°17′24.65″ W.)
KRINA, AZ | WP | (Lat. 35°28′02.52″ N., long. 113°11′35.60″ W.)
JASSE, AZ | WP | (Lat. 36°04′15.53″ N., long. 111°48′45.81″ W.)
* * * * *
Paragraph 2007 Canadian Area Navigation Routes.
Q-842 BEALE, NV to TOVUM, AB Canada (New)
BEALE, NV | WP | (Lat. 36°10′56.83″ N., long. 114°49′34.09″ W.)
BLIPP, NV | WP | (Lat. 36°42′41.31″ N., long. 114°28′26.45″ W.)
WINEN, UT | WP | (Lat. 37°56′00.00″ N., long. 113°30′00.00″ W.)
TABLL, UT | WP | (Lat. 38°39′56.31″ N., long. 113°10′35.15″ W.)
PICHO, UT | WP | (Lat. 39°58′00.00″ N., long. 112°35′00.00″ W.)
PATIO, UT | WP | (Lat. 41°16′00.00″ N., long. 112°32′00.00″ W.)
PROXI, UT | WP | (Lat. 41°58′20.81″ N., long. 112°31′33.79″ W.)
VAANE, ID | WP | (Lat. 45°18′12.53″ N., long. 112°44′58.36″ W.)
KEETA, MT | WP | (Lat. 47°20′39.01″ N., long. 112°52′51.46″ W.)
TOVUM, AB, Canada | WP | (Lat. 49°14′29.00″ N., long. 112°48′53.00″ W.)
Excluding the airspace within Canada.

Issued in Washington, DC, on January 28, 2016.
Randy Willis,
Acting Manager, Airspace Policy Group.

[FR Doc. 2016-02022 Filed 2-3-16; 8:45 am]

BILLING CODE 4910-13-P